DEPARTMENT OF HEALTH AND HUMAN SERVICES

Administration for Children and Families

Submission of OMB Review; Comment Request

Title: Compassion Capital Fund Evaluation.

OMB No.: New Collection.

Description: This proposed information collection activity is for two rounds of surveys to be completed by faith-based and community organizations participating in two studies within the Compassion Capital Fund (CCF) evaluation project. The first survey will be conducted as a baseline survey and the second will be a follow-up survey conducted several months later.

The CCF evaluation is an important opportunity to examine the effectiveness of the Compassion Capital Fund in meeting its objective of improving the capacity of faith-based and community organizations. The evaluation includes three distinct studies: a random assignment impact study, an outcome study, and a retrospective study. This notice pertains to the impact and outcome studies. The impact study will involve up to 1,000 faith-based and community organizations that seek services from CCF-funded intermediary organizations. Information will be collected from these faith-based and community-based organizations to assess change and improvement in various areas of capacity. The study design includes the random assignment of faith-based and community organizations to either a treatment group that receives capacity-building services from a CCF intermediary grantee or to a control group that does not. The impact of the services provided by intermediaries, primarily through sub-awards and/or technical assistance (TA), will be determined by comparing the changes in organizational and service capacity of the recipient organizations with those of the control group.

The outcome study will examine changes and improvements in a representative sample of about 750 faith-based and community organizations served by all CCF intermediaries operating in FY2005 and FY2006, except those already part of the impact study. The survey instruments will be used to track changes in the faith-based and community organizations' organizational capacity between baseline and follow-up.

Respondents: The respondents for both studies will be faith-based and community organizations that seek sub-awards or TA from CCF intermediary grantees. The baseline survey will be primarily self-administered and is expected to be completed as part of the intermediary's sub-award application or TA request process. The follow-up survey also will be primarily self-administered and contain questions similar to those in the baseline survey as well as additional questions related to services received from the intermediary or other organizations. It is expected that the follow-up survey will be administered approximately 12 months after the baseline survey. As needed to increase response rates, the survey will be administered by telephone to organizations that do not initially return a completed survey.

Annual Burden Estimates
Instrument | Number of respondents | Number of responses per respondent | Average burden hours per response | Total burden hours
Baseline Survey | 1,750 | 1 | .33 hours (approx. 20 minutes) | 577.5
Follow-up Survey | 1,750 | 1 | .42 hours (approx. 25 minutes) | 735
Estimated Total Annual Burden Hours | 3,500 |  |  | 1,312.5

Additional Information: Copies of the proposed collection may be obtained by writing to the Administration for Children and Families, Office of Administration, Office of Information Services, 370 L'Enfant Promenade, SW., Washington, DC 20447, Attn: ACF Reports Clearance Officer. All requests should be identified by the title of the information collection. E-mail address: grjohnson@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Attn: Desk Officer for ACF, E-mail address: Katherine_T._Astrich@omb.eop.gov.

Dated: September 13, 2005.
Robert Sargis,
Reports Clearance Officer.

[FR Doc. 05-18735 Filed 9-19-05; 8:45 am]

BILLING CODE 4184-01-M